DEPARTMENT OF THE INTERIOR

Bureau of Indian Affairs

[189A2100DD/AAKC001030/A0A501010.999900 253G]

Indian Gaming; Tribal-State Class III Gaming Compact Taking Effect in the State of New Mexico

AGENCY: Bureau of Indian Affairs, Interior.

ACTION: Notice.

SUMMARY: The notice announces that the Tribal-State Class III Gaming Compact between the Pueblo of Pojoaque and State of New Mexico is taking effect.

DATES: This notice is applicable as of October 26, 2017.

FOR FURTHER INFORMATION CONTACT: Ms. Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in Class III gaming activities on Indian lands. As required by IGRA and 25 CFR 293.4, all compacts are subject to review and approval by the Secretary. The Secretary took no action on the compact between the Pueblo of Pojoaque and the State of New Mexico within 45 days of its submission. Therefore, the Compact is considered to have been approved, but only to the extent the Compact is consistent with IGRA. See 25 U.S.C. 2710(d)(8)(C).

Dated: October 23, 2017.
Gavin Clarkson,
Deputy Assistant Secretary, Policy and Economic Development—Indian Affairs.

[FR Doc. 2017-23343 Filed 10-25-17; 8:45 am]

BILLING CODE 4337-15-P